FEDERAL MARITIME COMMISSION

Sunshine Act Meetings

TIME AND DATE: April 19, 2023; 10:00 a.m.

PLACE: This meeting will be held at the Federal Maritime Commission at the address below and also streamed live at Federal Maritime Commission's YouTube Channel.

Federal Maritime Commission, 800 North Capitol St. NW, 1st Floor Hearing Room, Washington, DC 20573

STATUS: Part of the meeting will be open to the public: held in-person at the Federal Maritime Commission for public attendants and also available to view streamed live on the Federal Maritime Commission's YouTube Channel. The rest of the meeting will be closed to the public.

The hearing will be held on April 19, 2023, at 10:00 a.m. in the Hearing Room of the Federal Maritime Commission and will be open for public observation. If technical issues prevent the Commission from live streaming, the Commission will post a recording of the public portion of the meeting on the Commission's YouTube Channel. Requests to register to attend the meeting in-person should be submitted to secretary@fmc.gov and contain “April 19, 2023, Commission Meeting” in the subject line. Interested members of the public have until 5:00 p.m. (Eastern) Monday, April 17, 2023, to register to attend in-person. Seating for members of the public is limited and will be available on a first-come, first-served basis for those who have registered in advance. Health and safety protocols for meeting attendees will depend on the COVID-19 Community Transmission Level for Washington DC as determined on Friday, April 14, 2023. Pre-registered attendees will be notified of any required health and safety protocols before the meeting and no later than Tuesday, April 18, 2023.

PORTIONS OPEN TO THE PUBLIC:

1. Commissioner Bentzel, Update on Maritime Transportation Data Initiative

2. Staff Briefing on Ocean Shipping Reform Act of 2022

3. Staff Briefing, Bureau of Enforcement, Investigations, and Compliance Update

PORTIONS CLOSED TO THE PUBLIC:

1. Staff Briefing, Bureau of Enforcement, Investigations, and Compliance Update

CONTACT PERSON FOR MORE INFORMATION: William Cody, Secretary, (202) 523-5725.

William Cody,
Secretary.

[FR Doc. 2023-07907 Filed 4-13-23; 11:15 am]

BILLING CODE 6730-02-P